DEPARTMENT OF TRANSPORTATION

Federal Transit Administration

Preparation of a Supplemental Draft Environmental Impact Statement on East-West Corridor Transit Improvements in Miami-Dade County, FL

AGENCIES: Federal Transit Administration (FTA), U.S. Department of Transportation (DOT).

ACTION: Notice of intent to prepare a supplemental draft environmental impact statement.

SUMMARY: The Federal Transit Administration (FTA) and Miami-Dade Transit (MDT) intend to prepare a Supplemental Draft Environmental Impact Statement (SDEIS) in accordance with the National Environmental Policy Act of 1969 (NEPA), for the proposed East-West Transit Corridor Study in Miami-Dade County, Florida, between Florida International University (FIU) and the Miami Intermodal Center (MIC) at Miami International Airport (MIA). The SDEIS will evaluate at least three alternatives: a No-Build Alternative; a Transportation System Management (TSM) Alternative; a Build Alternative; and any reasonable alternatives uncovered during the public scoping process. Scoping will be accomplished through meetings and correspondence with interested persons, organizations, the general public, Federal, State and local agencies. MDT will create a Coordination Plan to actively include public and participating agency involvement and comment during the entire NEPA process. The Coordination Plan will be found on the East-West Corridor Web site at http://www.miamidade.gov/transit. The purpose of this Notice of Intent is to re-notify interested parties of the intent to prepare the SDEIS and invite participation in the Study. An Advance Notification for the original East-West Corridor Multimodal Project was issued in 1993. The study area being evaluated in this SDEIS traverses the western portion (i.e., FIU to MIC) of the entire East-West Corridor between FIU and the Port of Miami that was studied in the East-West Multimodal Corridor Major Investment Study/Draft Environmental Impact Statement (MIS/DEIS) in 1995 and the East-West Multimodal Corridor Final Environmental Impact Statement (FEIS) in 1998. A Locally Preferred Alternative (LPA)/Minimum Operable Segment (MOS) emerged from this process and was the subject of a Record of Decision jointly issued by the Federal Highway Administration (FHWA) and FTA in 1998. With approval of the People's Transportation Plan (PTP) by Miami-Dade County voters in 2002, along with changes in growth and development along the western portion of the corridor, a redefinition of planned transit investments resulted in the locally proposed alternative. It is the intention of this action to improve mobility in the East-West Corridor.

DATES: Comment Due Date: Written comments on the scope of the alternatives and impacts to be considered should be sent to Ms. Maria C. Batista, Project Manager by June 30, 2006. See ADDRESSES below. Scoping Meetings: A Miami-Dade Transit agency coordination meeting will be held on Wednesday, June 7, 2006 from 2 p.m. to 5 p.m. at Florida International University, Miami, Florida. Public scoping meetings will be held on Wednesday, June 7, 2006 from 7 p.m. to 9 p.m. at Florida International University, Miami, Florida, and on Tuesday, June 13, 2006 from 7 p.m. to 9 p.m. at St. Dominic Catholic Church, Miami, Florida. See ADDRESSES below.

ADDRESSES: Written comments on the project scope should be sent to Ms. Maria C. Batista, Project Manager, Miami-Dade Transit, 111 NW., First Street, Suite 910, Miami, Florida 33128-1970. The fax number is 305.372.6017.

Scoping meetings will be held at the following locations:

Agency Coordination Meeting

Wednesday, June 7, 2006 from 2 p.m. to 5 p.m.

Florida International University, Graham Building, University Park, 11200 SW 8th Street, Miami, Florida.

Public Meetings

Wednesday, June 7, 2006 from 7 p.m. to 9 p.m.

Florida International University, Graham Building, University Park, 11200 SW 8th Street, Miami, Florida. Tuesday, June 13, 2006 from 7 p.m. to 9 p.m. St. Dominic Catholic Church, Senior Center Hall, 5849 NW 7th Street, Miami, Florida.

FOR FURTHER INFORMATION CONTACT: Mr. Tony Dittmeier, Transportation Program Specialist, Federal Transit Administration, Atlanta Regional Office, (404) 562-3512.

SUPPLEMENTARY INFORMATION:

I. Scoping

The current East-West Transit Corridor SDEIS is re-examining improved transit service in the portion of the East-West Corridor between FIU and the MIC at MIA. The MDT and FTA invite interested individuals, organizations, and Federal, State, and local agencies to participate in defining the purpose and need for, and refining the scope of the East-West Transit Corridor SDEIS. Comments should focus on identifying any significant social, economic, or environmental issues related to the proposed alternatives. Specific suggestions related to alignment variations to be examined and issues to be addressed are welcome and will be considered in the final scope for the study. Scoping comments should focus on the issues for analysis. Comments may be made at the scoping meetings or in writing no later than June 30, 2006. See DATES and ADDRESSES above for meeting times and locations and the address for written comments. A scoping information packet is available from Ms. Maria C. Batista at the address given above or on the MDT internet Web page at http://www.miamidade.gov/transit. See ADDRESSES above.

II. Description of Study Area and Project Need

The study area is located in central Miami-Dade County, Florida, beginning at the University Park Campus of FIU and ending just past MIA at the proposed MIC. The study area covers approximately a three-mile by nine-mile rectangle, generally bounded by NW 25th Street on the north; SW 8th Street on the south; the Homestead Extension of Florida's Turnpike (SR 821) on the west; and NW 37th Avenue to the east. It encompasses the area 1.5 miles north and south of the Dolphin Expressway (SR 836). The study area includes portions of the Cities of Miami, Sweetwater, and Doral, as well as areas within unincorporated Miami-Dade County. This area is highly urbanized with the older and denser development to the east (i.e., downtown Miami and Miami Beach), and the more recent and less dense development in the suburbs to the west and south.

The proposed transit alternative would serve the airport, portions of the City of Miami along the Dolphin Expressway, the City of Sweetwater, the City of Doral and FIU. It would provide an additional means of transportation within and through the heavily-congested East-West Corridor, thereby improving accessibility to major activity centers in the corridor and in the region generally. This would include improved mobility between residential suburbs to the south and west and the employment, cultural, and tourism centers to the east such as MIA, downtown Miami, the Port of Miami, and Miami Beach.

The purpose of and need for pursuing additional transit options to address mobility and accessibility issues in the East-West Corridor is based on the following key elements:

• The Miami-Dade Metropolitan Planning Organization (MPO), MDT, elected officials, and the people of Miami-Dade County have shown their commitment to major transportation capital investment in the corridor through officially adopted plans and approval of a referendum to commit sales tax revenues to fund expansion of the Metrorail system in this corridor.

• The roadway network in the corridor is heavily congested with many segments that have significantly high crash rates and unreliable travel conditions and times.

• The corridor contains several major employment/activity centers, including Miami International Airport, the single most important economic force and trip generator in the region.

• The efficiency of current transit service in the corridor, provided exclusively by bus, is hampered by the same factors that have impaired mobility along the congested roadway network in the corridor.

• With only one current and two planned east-west express bus routes in the corridor, current and potential transit users in the study area would benefit greatly from a higher level of transit service.

• Once the planned expansion of the Dolphin Expressway is completed, there will be essentially no capacity to further expand the roadway network in any substantial way, either for general purpose traffic or exclusive transit lanes, due to the high cost of acquiring property for right-of-way and associated adverse environmental impacts and community disruption.

• In order to meet projected growth and sustain continued economic viability within the corridor and the region, a major investment in transit is needed to meet mobility and accessibility needs.

In a region where high capacity transportation facilities are primarily oriented north-south, the East-West Corridor is Miami-Dade County's most important and heavily traveled east-west route. Much of the growth in recent years has occurred in the western and southwestern portions of the region, including the western portion of the East-West Corridor, which has seen rapid growth in population, households, and employment. The study area currently has more than 195,000 residents in 68,000 households and some 180,500 jobs. Official growth forecasts indicate that this trend will continue with population increasing by 44,000 (23 percent) by the year 2030 and jobs increasing by 60,000 (33 percent).

Several studies have clearly demonstrated the need for public transportation improvements to accommodate the East-West Corridor's substantial population growth, increasing employment and development, and the need for a wider range of mobility options to meet rising east-west travel demand within and through the corridor. Both the Miami-Dade MPO's 2030 Long-Range Transportation Plan (LRTP) and the People's Transportation Plan have designated the East-West Corridor as a priority corridor for extension of Metrorail service. In November 2002, the voters of Miami-Dade County approved the People's Transportation Plan and a one-half percent sales tax increase to fund the plan. The PTP includes an extension of Metrorail service from the MIC to FIU. The extension of Metrorail service from the MIC to FIU also is designated as a Priority I project in the MPO's financially constrained 2030 LRTP, approved by the MPO Governing Board in December 2004.

III. Alternatives

The transportation alternatives proposed for consideration in this study area include:

No-Build Alternative—The No-Build Alternative includes the existing street, highway, and transit facilities and services and those transit and highway improvements planned and programmed to be implemented by 2030. The No-Build Alternative provides the baseline for establishing the environmental impacts of the proposed alternatives, and assumes the following projects will be completed:

• Extension of the Stage 1 Metrorail Line from the existing Earlington Heights station to a new station at the MIC.

• MIC-MIA Connector fixed guideway people mover system linking MIA and the MIC.

• Increase in Tri-Rail service frequencies to 20-minute headways during peak periods between MIA and Mangonia Park Station in Palm Beach County.

Transportation System Management (TSM) Alternative—The TSM Alternative is defined as lower cost, operationally-oriented improvements to address the transportation problems identified in the corridor. It also provides a baseline against which the effectiveness of the Build Alternative is evaluated and rated for federal New Starts funding, and would include the following:

• Express, limited-stop bus service along the Dolphin Expressway.

• Enhanced bus service on major east-west arterials.

• Park-and-ride facilities at the same locations as the Build Alternative and sized to meet the forecasted demand.

• Enhanced bus stations at the same locations as the Build Alternative.

• The TSM Alternative also includes all improvements identified under the No-Build Alternative.

Build Alternative—The Build Alternative consists of an approximately 10.1 mile, two-track, elevated, heavy rail extension of Metrorail from the MIC at MIA west to FIU, with proposed stations at the NW 57th Avenue/Blue Lagoon, NW 72nd Ave./Palmetto Expressway, NW 87th Avenue, NW 97th Avenue, NW 107th Avenue, and FIU. The LPA that was developed as a result of the initial environmental studies prepared in the 1990's continues to form the basis of the current SDEIS effort. The Build Alternative connects FIU with the MIC at MIA by following the Florida Turnpike northward from FIU and then the Dolphin Expressway eastward to the MIC. It would be developed as a direct extension of the existing Metrorail system. Several land use and development changes have occurred since the previous studies that require some minor refinement of the alignment and station location options. These refinements are being developed in consultation with state and local agencies and the surrounding community. The intent of these refinements to the alternative is to stay generally within the original corridor while looking to improvements that would enhance the ridership potential of the line, reduce costs where feasible, and further mitigate environmental impacts.

IV. Probable Effects/Potential Impacts for Analysis

The FTA and MDT will evaluate all significant environmental, social, and economic impacts of the alternatives analyzed in the SDEIS. Environmental and social impacts proposed for analysis include land use, zoning, and economic development; secondary development; land acquisition, displacements, and relocation of existing uses; historic resources; visual and aesthetic qualities; neighborhoods and communities; environmental justice; air quality; noise and vibration; hazardous materials; ecosystems; water resources; energy; safety and security; utilities; traffic and transportation; natural areas; threatened and endangered species; ground water and potentially contaminated sites; wetlands; and floodplain areas. The SDEIS will also evaluate secondary and cumulative impacts. Potential impacts will be assessed for the long-term operation of each alternative and the short-term construction period. Measures to avoid, minimize, or mitigate any significant adverse impacts will be identified.

V. Public Involvement

A comprehensive public involvement program has been developed and a public and agency involvement Coordination Plan will be created. The program includes a project Web site (http://www.miamidade.gov/transit); outreach to local and county officials and community and civic groups; a public scoping process to define the issues of concern among all parties interested in the study; a public hearing on release of the supplemental draft environmental impact statement (SDEIS); establishment of walk-in project offices in the corridor; and development and distribution of project newsletters.

VI. FTA Procedures

In accordance with FTA policy, all Federal laws, regulations, and executive orders affecting project development, including but not limited to the regulations of the Council on Environmental Quality and FTA implementing NEPA (40 CFR parts 1500-1508, and 23 CFR Part 771), the 1990 Clean Air Act Amendments, section 404 of the Clean Water Act, Executive Order 12898 regarding environmental justice, the National Historic Preservation Act, the Endangered Species Act, and section 4(f) of the DOT Act, will be addressed to the maximum extent practicable during the NEPA process. In addition, MDT may seek § 5309 New Starts funding for the project and will therefore be subject to the FTA New Starts regulation (49 CFR part 611). This New Starts regulation requires the submission of certain specified information to FTA to support a MDT request to initiate preliminary engineering, which is normally done in conjunction with the NEPA process. Pertinent New Starts evaluation criteria will be included in the Final Supplemental Environmental Impact Statement.

Issued On: May 17, 2006.
Yvette G. Taylor,
FTA Regional Administrator.

[FR Doc. E6-7865 Filed 5-23-06; 8:45 am]

BILLING CODE 4910-57-P